DEPARTMENT OF COMMERCE

Patent and Trademark Office

Invention Promoters/Promotion Firms Complaints

ACTION: Proposed collection; comment request.

SUMMARY: The United States Patent and Trademark Office (USPTO), as required by the Paperwork Reduction Act of 1995, invites comments on a proposed extension of an existing information collection: 0651-0044 (Invention Promoters/Promotion Firms Complaints).

DATES: Written comments must be submitted on or before April 15, 2019.

ADDRESSES: You may submit comments by any of the following methods:

Email: InformationCollection@uspto.gov. Include “0651-0044 comment” in the subject line of the message.

Federal Rulemaking Portal: http://www.regulations.gov.

Mail: NaThanya Ferguson, Supervisory Innovation and Development Program Specialist, Inventor Education and Outreach, United States Patent and Trademark Office, P.O. Box 1450, Alexandria, VA 22313-1450.

FOR FURTHER INFORMATION CONTACT: Requests for additional information should be directed to NaThanya Ferguson, Supervisory Innovation and Development Program Specialist, Inventor Education and Outreach, United States Patent and Trademark Office, P.O. Box 1450, Alexandria, VA 22313-1450; by telephone at 571-272-5517; or by email at Nathanya.Ferguson@uspto.gov with “0651-0044 comment” in the subject line. Additional information about this collection is also available at http://www.reginfo.gov under “Information Collection Review.”

SUPPLEMENTARY INFORMATION:

I. Abstract

Pursuant to the Inventors' Rights Act of 1999, 35 U.S.C. 297, and implementing regulations at 37 CFR part 4, the United States Patent and Trademark Office (USPTO) is required to provide a forum for the publication of complaints concerning invention promoters and responses from the invention promoters. Upon receipt of a complaint, the USPTO will forward it to the inventor promoter for a response. The USPTO does not investigate these complaints or participate in any legal proceedings against invention promoters or promotion firms. Under the Act, USPTO is responsible for making complaints and responses available to the public on the USPTO's website.

A complaint submitted to the USPTO must be clearly marked, or otherwise identified, as a complaint. The complaint must include: (1) The name and address of the complaint; (2) the name and address of the invention promoter; (3) the name of the customer; (4) the invention promotion services offered or performed by the invention promoter; (5) the name of the mass media in which the invention promoter advertised providing such services; (6) and example of the relationship between the customer and the invention promoter; and (7) a signature of the complainant. Identifying information is necessary so that the USPTO can both forward the complaint to the invention promoter or promotion firm as well as notify the complainant that the complaint has been forwarded. Complainants should understand that the complaints will be forwarded to the invention promoter for response and that the complaint and response will be made available to the public as required by the Inventors' Rights Act. If the USPTO does not receive a response from the invention promoter, the complaint will be published without a response. The USPTO does not accept under this program complaints that request confidentiality.

This information collection contains one form, Complaint Regarding Invention Promoter (PTO/SB/2048A), which is used by the public to submit a complaint under this program. This form is available for download from the USPTO website. Use of this form is not mandatory, and the complainant may submit his or her complaint without the form via any of the approved methods of collection as long as the complainant includes the necessary information and the submission is clearly marked as a complaint filed under the Inventors' Rights Act. There is no associated form for submitting responses to the complaints.

II. Method of Collection

By mail, facsimile, or hand delivery to the USPTO.

III. Data

OMB Number: 0651-0044.

IC Instruments and Forms: PTO/SB/2048.

Type of Review: Extension of an existing information collection.

Affected Public: Individuals or households; businesses or other for-profits; and not-for-profit institutions.

Estimated Number of Respondents: 22 responses per year.

Estimated Time per Response: The USPTO estimates that it will take the pubic approximately between 15 minutes (0.25 hours) and 30 minutes (0.50 hours) to gather the necessary information, prepare either the form or a response to a complaint, and submit the materials to the USPTO.

Estimated Total Annual Hour Burden: 8 hours per year.

Estimated Total Annual Respondent (Hourly) Cost Burden: $2,481.96 per year.

The USPTO expects that paraprofessionals and independent inventors will be filing the complaints. The USPTO estimates that this group has an average hourly rate of $97.32. The professional hourly rate for paraprofessionals is $145 per hour, as listed in the 2016 National Utilization and Compensation Survey Report published by the National Association of Legal Assistants. The hourly rates for independent inventors is $49.64, which is the average of the mean rates for Engineers ($47.74) and Scientists ($51.53). The rates for Engineers (BLS 17-2199) and Scientists (BLS 19-2099) are based on the 2017 Bureau of Labor Statistics (BLS) National Occupation and Employment and Wage Estimates. As a result, the USPTO estimates that the average hourly rate for independent inventors ($49.64) and paraprofessionals ($145) is $97.32.

The USPTO also expects that the responses to the complaints will be prepared by attorneys or invention promoters. The professional hourly rate for intellectual property attorneys in private firms is $438. The rate is established in estimates in the 2017 Report on the Economic Survey, published by the Committee on Economics of Legal Practice of the American Intellectual Property Law Association.

IC No. | Item | Hours | Responses | Burden | Rate | Total cost
|  | (a) | (b) | (c) = (a) × (b) | (d) | (e) = (c) × (d)
1 | Complaint Regarding Invention Promoter (PTO/SB/2048) | 0.25 (15 minutes) | 12 | 3 | $97.32 | $291.96
2 | Responses to the Complaints | 0.50 (30 minutes) | 10 | 5 | 438.00 | 2,190
Totals |  |  | 22 | 8 |  | 2,481.96

Estimated Total Annual (Non-Hourly) Cost Burden: $245.50.

There are no capital startup, maintenance, or operating fees associated with this collection, nor are there filing or processing fees. There is a non-hourly cost associated with this collection in the form of postage costs.

For this collection, it is estimated that 12 complaints will be received by mail. The USPTO estimates that the first-class postage cost for a mailed complaint will be $0.50, for a total of $6 for mailed complaints. The USPTO estimates that it will receive 10 responses to complaints. Promotion firms may choose to send responses to complaints using overnight mail service costs at an estimated cost of $23.95 per response, for a total of $239.50 for mailed responses to complaints. The total postage cost associated with this collection will be $245.50. Therefore, the USPTO estimates that the total annual (non-hour) cost burden for this collection, in the forms of postage costs, is $245.50.

IV. Request for Comments

Comments submitted in response to this notice will be summarized or included in the request for OMB approval of this information collection. They also will become a matter of public record.

Comments are invited on:

(a) Whether the proposed collection of information is necessary for the proper performance of the functions of the agency, including whether the information shall have practical utility;

(b) The accuracy of the agency's estimate of the burden (including hours and cost) of the proposed collection of information;

(c) Ways to enhance the quality, utility, and clarity of the information to be collected; and

(d) Ways to minimize the burden of the collection of information on respondents, e.g., the use of automated collection techniques or other forms of information technology.

Marcie Lovett,
Records and Information Governance Division Director, OCAO, United States Patent and Trademark Office.

[FR Doc. 2019-01948 Filed 2-11-19; 8:45 am]

BILLING CODE 3510-16-P